DEPARTMENT OF LABOR

Employment and Training Administration

[TA-W-63,301]

Quebecor World Northeast Graphics, Inc., Including On-Site Leased Workers From Ahead Human Resources and Sun Chemical Company, North Haven, CT; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on May 16, 2008, applicable to workers of Quebecor World Northeast Graphics, Inc., including on-site temporary workers from Ahead Human Resources, North Haven, Connecticut. The notice was published in the Federal Register on May 29, 2008 (73 FR 30977).

At the request of the State agency, the Department reviewed the certification for workers of the subject firm. The workers were engaged in the production of general commercial printed products.

New information shows that worker separations have occurred involving employees of Sun Chemical Company employed on-site at the North Haven, Connecticut location of Quebecor World Northeast Graphics, Inc. The Sun Chemical workers produced the ink used in the production of general commercial printed products at the North Haven, Connecticut location of the subject firm, and are sufficiently under the control of the subject firm to be considered leased workers.

Based on these findings, the Department is amending this certification to include all workers of Sun Chemical working on-site at the North Haven, Connecticut location of the subject firm.

The intent of the Department's certification is to include all workers employed at Quebecor World Northeast Graphics, Inc., North Haven, Connecticut who were adversely affected by a shift in production of general commercial printed products to Canada.

The amended notice applicable to TA-W-63,301 is hereby issued as follows:

All workers of Quebecor World Northeast Graphics, Inc., including on-site leased workers from Ahead Human Resources and Sun Chemical, North Haven, Connecticut, who became totally or partially separated from employment on or after May 2, 2007, through May 16, 2010, are eligible to apply for adjustment assistance under Section 223 of the Trade Act of 1974, and are also eligible to apply for alternative trade adjustment assistance under Section 246 of the Trade Act of 1974.

Signed at Washington, DC, this 11th day of June 2008.
Richard Church,
Certifying Officer, Division of Trade Adjustment Assistance.

[FR Doc. E8-13978 Filed 6-19-08; 8:45 am]

BILLING CODE 4510-FN-P